DEPARTMENT OF VETERANS AFFAIRS

Advisory Committee on Prosthetics and Special-Disabilities Programs; Notice of Meeting

The Department of Veterans Affairs (VA) gives notice under the Federal Advisory Committee Act, 5 U.S.C. App. 2, that a meeting of the Federal Advisory Committee on Prosthetics and Special-Disabilities Programs will be held on November 17-18, 2015, in Room 530 at VA Central Office, 810 Vermont Avenue NW., Washington, DC 20420. The meeting will convene at 8:30 a.m. on both days, and will adjourn at 4:30 p.m. on November 17 and at 12 noon on November 18. This meeting is open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On November 17, the Committee will receive briefings on Advisory Committee Management, Physical Medicine and Rehabilitation, Polytrauma System of Care, Clinical Orthotists and Prosthetists, Spinal Cord Injury and Disorders, Eye Care (Optometry and Ophthalmology), and VA Library Orientation. On November 18, the Committee will receive a briefing on Workforce Planning.

No time will be allocated for receiving oral presentations from the public; however, members of the public may direct questions or submit written statements for review by the Committee in advance of the meeting to Mr. Larry N. Long, Designated Federal Officer, Veterans Health Administration, Patient Care Services, Rehabilitation and Prosthetic Services (10P4RR), Department of Veterans Affairs, 810 Vermont Avenue NW., Washington, DC 20420, or by email at lonlar@va.gov. Because the meeting is being held in a government building, a photo I.D. must be presented at the Guard's Desk as a part of the clearance process. Therefore, you should allow an additional 15 minutes before the meeting begins. Any member of the public wishing to attend the meeting should contact Mr. Long at (202) 461-7354.

Dated: October 22, 2015.
Rebecca Schiller,
Committee Management Officer.

[FR Doc. 2015-27241 Filed 10-26-15; 8:45 am]

BILLING CODE 8320-01-P